ENVIRONMENTAL PROTECTION AGENCY

40 CFR Part 300

[EPA-HQ-SFUND-2002-0001; FRL-9971-32-Region 1]

National Oil and Hazardous Substances Pollution Contingency Plan; National Priorities List: Deletion of the Hatheway & Patterson Superfund Site

AGENCY: Environmental Protection Agency.

ACTION: Direct final rule.

SUMMARY: The Environmental Protection Agency (EPA) Region 1 is publishing a direct final Notice of Deletion of the Hatheway & Patterson Superfund Site (Site), located in Mansfield and Foxborough, Massachusetts, from the National Priorities List (NPL). The NPL, promulgated pursuant to section 105 of the Comprehensive Environmental Response, Compensation, and Liability Act (CERCLA) of 1980, as amended, is an appendix of the National Oil and Hazardous Substances Pollution Contingency Plan (NCP). This direct final deletion is being published by EPA with the concurrence of the Commonwealth of Massachusetts, through Massachusetts Department of Environmental Protection (MassDEP), because EPA has determined that all appropriate response actions under CERCLA, other than operation, maintenance, monitoring, and five-year reviews, have been completed. However, this deletion does not preclude future actions under Superfund.

DATES: This direct final deletion is effective January 30, 2018 unless EPA receives adverse comments by January 2, 2018. If adverse comments are received, EPA will publish a timely withdrawal of the direct final deletion in the Federal Register informing the public that the deletion will not take effect.

ADDRESSES: Submit your comments, identified by Docket ID No. EPA-HQ-SFUND-2002-0001, at http://www.regulations.gov. Follow the online instructions for submitting comments. Comments may also be submitted by email or mail to Kimberly White, Remedial Project Manager for Hatheway & Patterson Superfund Site, Office of Site Remediation and Restoration, Mail Code: OSRR07-1, U.S. Environmental Protection Agency, Region 1, 5 Post Office Square, Suite 100, Boston, MA 02109-3912, email: white.kimberly@epa.gov or Emily Bender, Community Involvement Coordinator, Office of the Regional Administrator, Mail Code: ORA01-3, 5 Post Office Square, Suite 100, Boston, MA 02109-3912, email: bender.emily@epa.gov. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www2.epa.gov/dockets/commenting-epa-dockets. Publicly available docket materials are available either electronically through http://www.regulations.gov or in hard copy at the site information repositories.

Locations, contacts, phone numbers and viewing hours are: U.S. EPA Region 1, Superfund Records Center, 5 Post Office Square, Suite 100, Boston, MA 02109, Phone: 617-918-1440, Monday-Friday: 9:00 a.m.-5:00 p.m., Saturday and Sunday—Closed.

FOR FURTHER INFORMATION CONTACT: Kimberly White, Remedial Project Manager for Hatheway & Patterson Superfund Site, Office of Site Remediation and Restoration, Mail Code: OSRR07-1, U.S. Environmental Protection Agency, Region 1, 5 Post Office Square, Suite 100, Boston, MA 02109-3912, telephone number: 617-918-1752, email address: white.kimberly@epa.gov or Emily Bender, Community Involvement Coordinator, Office of the Regional Administrator, Mail Code: ORA01-3, 5 Post Office Square, Suite 100, Boston, MA 02109-3912, telephone number: 617-918-1037, email address: bender.emily@epa.gov.

SUPPLEMENTARY INFORMATION:

Table of Contents

I. Introduction

II. NPL Deletion Criteria

III. Deletion Procedures

IV. Basis for Site Deletion

V. Deletion Action

I. Introduction

EPA Region 1 is publishing this direct final Notice of Deletion of the Hatheway & Patterson Superfund Site (Site), from the National Priorities List (NPL). The NPL constitutes Appendix B of 40 CFR part 300, which is the National Oil and Hazardous Substances Pollution Contingency Plan (NCP), which EPA promulgated pursuant to section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 300.425(e)(3) of the NCP, sites deleted from the NPL remain eligible for Fund-financed remedial actions if future conditions warrant such actions.

Section II of this document explains the criteria for deleting sites from the NPL. Section III discusses procedures that EPA is using for this action. Section IV discusses the Hatheway & Patterson Superfund Site and demonstrates how it meets the deletion criteria. Section V discusses EPA's action to delete the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the state, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

Pursuant to CERCLA section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to deletion of the Site:

(1) EPA consulted with the Commonwealth of Massachusetts (the “state”) prior to developing this direct final Notice of Deletion and the Notice of Intent to Delete co-published today in the “Proposed Rules” section of the Federal Register.

(2) EPA has provided the state 30 working days for review of this notice and the parallel Notice of Intent to Delete prior to their publication today, and the state, through the Massachusetts Department of Environmental Protection (MassDEP), has concurred on the deletion of the Site from the NPL.

(3) Concurrently with the publication of this direct final Notice of Deletion, a notice of the availability of the parallel Notice of Intent to Delete is being published in a major local newspaper, The Sun Chronicle, Attleboro, MA. The newspaper notice announces the 30-day public comment period concerning the Notice of Intent to Delete the Site from the NPL.

(4) The EPA placed copies of documents supporting the proposed deletion in the deletion docket and made these items available for public inspection and copying at the Site information repository identified above.

(5) If adverse comments are received within the 30-day public comment period on this deletion action, EPA will publish a timely notice of withdrawal of this direct final Notice of Deletion before its effective date and will prepare a response to comments and continue with the deletion process on the basis of the Notice of Intent to Delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Background and History

The Hatheway and Patterson Superfund Site (Site), known by EPA Site Identification Number: MAD001060805, is located in the towns of Mansfield and Foxborough, Massachusetts. Approximately 36 acres of the Site are located in the Town of Mansfield, which is zoned for commercial/industrial use. The remaining 1.77 acres are located in the Town of Foxborough, also zoned for commercial use. The Site is bisected by the Rumford River, which runs north to south, and by a railroad right-of-way, which runs east to west.

Prior to the 1950's, the property was reportedly used for various activities, including railroad operations, coal storage, bulk chemical transfer, and storage of electric/utility poles and railroad ties. Beginning in 1952, wood treatment operations by Hatheway & Patterson Co., Inc. (Hatheway & Patterson) began. Operations at the Site included the preservation of wood sheeting, planking, timber, piling, poles and other wood products and included the use of pentachlorophenol (PCP), creosote, fluoro-chrome-arsenate-phenol (FCAP) salts, chromated copper-arsenate (CCA) salts, and fire retardants, including Dricon™ (boric acid and anhydrous sodium tetraborate). Contamination was initially discovered in 1972, when a tar seep (approximately 62 feet long and 6 inches thick) was discovered on the banks of the Rumford River on the southern portion of the property.

Following the initial discovery of contamination, Hatheway & Patterson took steps to control the “oily seepage” from 1973 to 1991. Hatheway & Patterson filed for bankruptcy in 1993, leading to a removal action by EPA in 1993-1995 to address the imminent hazard posed by abandoned chemicals and waste at the Site. The Site was placed on the National Priorities List (NPL) by publication in the Federal Register on September 5, 2002, 67 FR 56757.

Remedial Investigation and Feasibility Study (RI/FS)

The Remedial Investigation and Feasibility Study were completed in 2005. As part of the investigation, soil, surface water, groundwater, sediments and fish tissue were evaluated. The primary contaminants identified at the Site were arsenic, dioxin, polycyclic aromatic hydrocarbons (PAHs), pentachlorophenol (PCP) and other semi-volatile organic compounds (SVOCs). Light Non-Aqueous Phase Liquid (LNAPL) hot spot areas/isolated pockets of free product and LNAPL-saturated subsurface soils were also detected throughout the Site.

The baseline human health risk assessment concluded that exposure to surface and subsurface soil was associated with an unacceptable human health risk outside EPA's acceptable risk range under current and future exposure scenarios. On-site overburden and bedrock groundwater was also associated with an unacceptable human health risk. The baseline ecological risk assessment concluded that there was not a substantial risk from exposure to site-related contaminants. The FS evaluated alternatives with various combinations of soil treatment technologies, excavation, off-site disposal of contaminants, consolidation of contaminated soil and sediments under a cap and institutional controls.

Selected Remedy

In September 2005, EPA issued a Record of Decision (ROD) that set forth the Selected Remedy at the Hatheway and Patterson Superfund Site to address current and future risks due to direct contact and incidental ingestion of soil and risks to future users of groundwater. The Remedial Action Objectives (RAOs) for the Site outlined in the ROD were as follows:

Surface Soil—Prevent current and future users from ingesting or contacting surface soils contaminated with arsenic, dioxin, pentachlorophenol, benzo(a)pyrene, and other Site contaminants that pose a risk to human health.

Subsurface Soil—Prevent future users from ingesting or contacting subsurface soils contaminated with arsenic, dioxin, pentachlorophenol, benzo(a)pyrene, and other Site contaminants that pose a risk to human health.

LNAPL—Prevent further contaminant transfer from LNAPL to groundwater by reducing LNAPL source material in soil excavation/treatment areas. Prevent further migration of LNAPL to groundwater and surface water by removing free product “hotspots” to the extent feasible.

The Selected Remedy included: Demolition of buildings in and near Hatheway & Patterson's former manufacturing area; excavation and on-site consolidation of soils contaminated with arsenic and pentachlorophenol under a low-permeability cover, after being stabilized with cement to achieve leachability criteria; disposal of soil contaminated with dioxin and free product LNAPL at a licensed off-site facility; institutional controls to prohibit the use of Site groundwater and restrict land uses in a manner that ensures the protectiveness of the remedy as described in the ROD; long term monitoring of groundwater, surface water, sediment, as well as fish tissue analysis of specimens caught in the Rumford River; and Five-Year Reviews of the remedy.

Modifications to the remedy were documented in the 2011 Explanation of Significant Differences (ESD). Based on a zoning change for the Foxborough parcel from residential use to “Limited Industrial” use, and intended reuse of the parcel as a parking lot, EPA and MassDEP determined that the Foxborough parcel should be remediated to a Reasonably Anticipated Future Use of commercial/open space. Therefore, the cleanup level for arsenic was changed for this parcel, and it was then used as a consolidation area for soils contaminated with arsenic and covered with asphalt in order to facilitate the use of the parcel as a parking lot. The ESD also documented that PCP and arsenic-contaminated soils in the Mansfield portion of the Site were disposed at an off-site facility rather than consolidated on-site as described in the ROD. In addition, the ESD clarified the extent of institutional controls to be placed on the Site properties.

Response Actions

Through an Interagency Agreement with EPA Region 1, the U.S. Army Corps of Engineers New England District (USACE) performed the Selected Remedy. Remedial construction activities commenced in September 2009 and were substantially completed in September 2010. A total of 34,000 tons of soil was removed from the Northern Mansfield Property and the Foxborough Property and 9,500 tons of soil was removed from the eastern portion of the Southern Mansfield Property for off-site disposal to a RCRA subtitle C hazardous waste landfill, Envirosafe of Oregon, Ohio. Approximately 5,000 tons of soil exceeding arsenic cleanup levels were consolidated in the “Capped Consolidation Area” on the Foxborough Property under a multi-layer low-permeability barrier (i.e., the asphalt cover). A small portion of land along the western boundary of the Foxborough Property, approximately 30 feet wide, was left unpaved. All portions of the Foxborough Property that are not part of the Capped Consolidation Area are referred to as the “Unpaved Area”. The Unpaved Area of the Foxborough Property was cleaned-up to the same level that was being used in the rest of the Site in Mansfield that was zoned open space/commercial.

The properties owned by the towns of Mansfield and Foxborough have institutional controls in the form of Notice of Activity and Uses Limitations (NAULs), to prevent uncontrolled access to the remaining contamination. Institutional controls were also placed on the railroad right-of way, owned by the Massachusetts Department of Transportation, in the form of signage to prevent the potential exposure to any future utility workers. The property owners are required comply with the institutional controls for the Site; this will be verified during the Five-Year Reviews.

Cleanup Levels

The source control remedy at the Site was performed in accordance with EPA-approved plans and specifications. No additional EPA construction is anticipated at the Site. The source control remedial cleanup levels (listed below) were set in the ROD based on commercial/open-space reuse:

Contaminant | Cleanup level (ppm)
Benzo(a)pyrene | 2.1
Dioxin | 0.001
Arsenic | 16.0
Pentachlorophenol | 90.0

During the remedial action, if contaminants of concern (COCs) were detected above the clean-up criteria listed above, excavation continued horizontally and vertically until either: (1) Post-excavation confirmatory samples met the clean-up criteria; (2) planned excavation limits along County Street and the railroad right of way were met, or (3) for vertical excavation, the water table was reached.

Post-excavation confirmatory sampling was performed in conjunction with excavation activities from the bottom of excavation and “clean” perimeter embankment and tested for the COCs. Generally, as excavation was completed in a grid cell area, confirmatory soil samples were collected from the bottom and sidewalls of the excavation. Bottom samples were comprised of a five-point composite sample collected from the center and four corners of the excavation cell. Sidewall samples were collected from the sidewalls of excavations when grids were adjacent to the Site perimeter. If excavation sidewalls were greater than three feet in depth, an additional sample was collected below this interval to the bottom of the excavation. All samples collected and analytical results are summarized in the Remedial Action Completion Report, dated August 2011.

Operation and Maintenance

Institutional Controls

Institutional controls in the form of enforceable Notices of Activity and Use Limitations (NAULs) were recorded with the deed on properties associated with the Site, as listed below:

Northern Mansfield Property, 35 County St., Mansfield, MA [Map 19 Lot 210, Book 6160 Page 89] (Northern Bristol County Registry of Deeds),

Southern Mansfield Property, Morrow St., Mansfield, MA [Map 18 Lot 230-235, Book 2164 Page 64] (Northern Bristol County Registry of Deeds), and

Foxborough Property, 41 County St., Foxborough, MA [Map 158 Lot 4060, Book 11412 Page 408] (Norfolk County Registry of Deeds).

The NAUL on each property specifies the current allowable and prohibited uses of the property, and establishes limits and conditions on the future uses of contaminated portions of the property. The restrictions are different for each property, but generally restrict the use of groundwater and subsurface soils where contamination remains on the site. The NAUL provides information about the risks remaining at the Site for current and future owners and interest holders. The NAULs require that the site owner submit annual reports to EPA and MassDEP regarding the status of the ICs. EPA will also assess site conditions and interview town officials as part of the Five Year Review process to confirm that only the permitted uses have taken place on the restricted properties. Should there be violations of the restrictions contained in the NAUL, the state has the authority to take an enforcement action against any property owner.

In addition to NAULs, institutional controls in the form of signage were used along the railroad right-of-way that intersects the Site stating to contact the property owner before soils are disturbed. The signage along the railroad right-of-way will be inspected periodically at a minimum every five years as part of EPA's Five Year Review process and/or during regular operation and maintenance activities conducted by the state.

Long-Term Groundwater, Surface Water and Sediment Monitoring

The ROD required long-term monitoring of groundwater, surface water, fish tissue and sediment, and operation and maintenance of the low-permeability cover. As a result of changes to the remedy documented in the ESD, the Hatheway and Patterson Operation and Maintenance Manual, dated August 2017 requires semi-annual monitoring of groundwater following the first five-year review, and sampling of sediment and surface water at least once every five years following the second five-year review. The 2017 Operation and maintenance (O&M) Manual also provides an explanation for eliminating the fish tissue sampling requirement which is primarily due to the lack of fish in the Rumford River.

The ROD contains performance standards for on-site groundwater and for groundwater at the boundary of the Site. If monitoring indicates exceedances of the on-site groundwater performance standards, further evaluation of the impacts to surface water and sediments is needed. If monitoring indicates exceedances of the Site boundary groundwater performance standards, the ROD requires an evaluation of whether off-site receptors are at risk. MassDEP is the lead agency performing the O&M, including the groundwater, surface water and sediment monitoring for the Site.

Five-Year Review

Five-year reviews are required at the Site because hazardous substances will remain at the Site above concentration levels that would allow for unrestricted use and unrestricted exposure after the completion of all remedial actions. Pursuant to CERCLA Section 121(c), NCP Section 300.400(f)(4)(ii) and as provided in OSWER Directive 9355.7-03B-P, June 2001, Comprehensive Five-Year Review Guidance, EPA must conduct statutory five-year reviews at the Site. The purpose of these reviews is to evaluate whether the selected remedy remains protective of human health and the environment. These five-year reviews are required no less often than each five years after the initiation of the remedial action. EPA may terminate these reviews when no hazardous substances, pollutants, or contaminants remain at the Site above levels that allow for unrestricted use and unlimited exposure.

The first five-year review was conducted in 2014, and found that the remedy at the Hatheway & Patterson Superfund Site currently protects human health and the environment. Several issues were raised in the 2014 Five-Year Review and resolved as discussed below.

Institutional Controls: At the time of the 2014 Five-Year Review, institutional controls were not in place. Between 2015 and 2017, all institutional controls for the Site were implemented.

Sediment Sampling: An issue was noted with the sediment sampling locations. To address the issue additional sediment sampling was performed and the results showed contaminants concentrations in sediment at the Site remain protective of human health and the environment.

Fish Tissue and Surface Water Sampling: Fish tissue and surface water sampling were not performed as required by the ROD. To address this issue, the 2017 O&M Manual was written to reflect site conditions (a lack of fish in the Rumford River) and to require sediment and surface water monitoring at a minimum in conjunction with the five-year reviews.

Groundwater: Two issues related to groundwater were raised in the 2014 Five-Year review. First, to determine whether a detection of a contaminant of concern at an off-site well was site actual and persistent; and second, to evaluate whether the active irrigation wells outside the compliance boundary have impacted groundwater flow directions. To address the first issue, additional sampling was performed at the off-site well which showed the contaminant was below state groundwater standards and was likely not site-related. To address the second issue, EPA compiled a technical memorandum documenting that the irrigations wells are not impacting groundwater flowpaths near the Site. Also, periodic groundwater monitoring will continue to confirm that off-site wells are not impacted.

The 2014 Five-Year Review found that the remedy at the Hatheway & Patterson Superfund Site protects human health and the environment because remediation of the soil (soil removal and on-site consolidation) has been completed to cleanup levels that are considered protective for the anticipated future use of the property, and there is no current use of on-site groundwater which is classified as non-potable. Institutional controls have been created and recorded to restrict inappropriate land uses (including use of groundwater) and protect the consolidation area cover. Operation and maintenance activities have been initiated and will ensure that the consolidation area and associated components of the remedy (e.g., groundwater monitoring wells) remain in good condition. In addition, monitoring of groundwater will continue to assess the protectiveness of the remedy.

Community Involvement

Throughout the Site's history, EPA has kept the community and other interested parties apprised of Site activities through informational meetings, fact sheets, press releases, and public meetings. A Community Relations Plan was established before remedial actions were performed at the Site to address issues of community concern and community relation activities conducted by EPA. Activities included providing information concerning the progress of remedial activities to interested citizens and allowing those individuals or groups an opportunity to provide comments as EPA conducts remedial activities at the Site. EPA also issued press releases announcing the start and conclusion of the five-year review and will continue to do so.

Determination That the Site Meets the Criteria for Deletion in the NCP

Remedial Design and Remedial Action (RD/RA) activities at the Site were consistent with the ROD and EPA RD/RA Statements of Work provided to USACE. RA plans for all phases of construction included a Quality Assurance Project Plan (QAPP) dated October 2009 and QAPP Revision 1, dated March 2010. The QAPP incorporated all EPA and state quality assurance and quality control procedures and protocols (where necessary). All procedures and protocols were followed for soil, sediment, water, and air sampling during the RA. EPA analytical methods were used for all validation and monitoring samples during all RA activities. EPA has determined that the analytical results are accurate to the degree needed to assure satisfactory execution of the RA, and are consistent with the ROD and the RD/RA plans and specifications. All Institutional Controls are in place and currently EPA expects that no further Superfund response is needed to protect human health and the environment, except future Five Year Reviews.

Operation and maintenance (O&M) activities were agreed upon by EPA and the state following construction of the remedy. The operation and maintenance activities are documented in the 2017 O&M Manual. The state preforms O&M at the Site and will follow state quality assurance/quality control plans associated with the 2017 O&M plan.

This Site meets all the site completion requirements as specified in OSWER Directive 9320.2-09-A-P, Close Out Procedures for National Priorities List Sites. All cleanup actions specified in the ROD and ESD have been implemented. Confirmatory ground-water monitoring and institutional controls provide further assurance that the Site no longer poses any threats to human health or the environment. The only remaining activity to be performed is O&M that the state has guaranteed. Five year reviews and monitoring will also be conducted at the Site. A bibliography of all reports relevant to the completion of this Site under the Superfund program is in the administrative record for this deletion.

V. Deletion Action

The EPA, with concurrence of the Commonwealth of Massachusetts through the Department of Environmental Protection, has determined that all appropriate response actions under CERCLA, other than operation and maintenance, monitoring, and five-year reviews have been completed. Therefore, EPA is deleting the Site from the NPL.

Because EPA considers this action to be noncontroversial and routine, EPA is taking it without prior publication. This action will be effective January 30, 2018 unless EPA receives adverse comments by January 2, 2018. If adverse comments are received within the 30-day public comment period, EPA will publish a timely withdrawal of this direct final notice of deletion before the effective date of the deletion, and it will not take effect. EPA will prepare a response to comments and continue with the deletion process on the basis of the notice of intent to delete and the comments already received. There will be no additional opportunity to comment.

List of Subjects in 40 CFR Part 300

Environmental protection, Air pollution control, Chemicals, Hazardous substances, Hazardous waste, Intergovernmental relations, Penalties, Reporting and recordkeeping requirements, Superfund, Water pollution control, Water supply.

Dated: October 18, 2017.
Deborah Szaro,
Acting Regional Administrator, Region 1.

For the reasons set out in this document, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Appendix B to Part 300—[Amended]

2. Table 1 of appendix B to part 300 is amended by removing “MA”, “Hatheway and Patterson Company”, “Mansfield”.

[FR Doc. 2017-25937 Filed 11-30-17; 8:45 am]

BILLING CODE 6560-50-P